INTER-AMERICAN FOUNDATION

Sunshine Act Meetings

TIME AND DATE: July 26, 2022, 9 a.m.-12:30 p.m. ET.

PLACE: Inter-American Foundation Office, 1331 Pennsylvania Ave. NW, Suite 1200 North, Washington, DC 20004.

STATUS: Meeting of the IAF Board of Directors, open to the public, portion closed to the public.

MATTERS TO BE CONSIDERED:

Call to Order from the Board Chair

Overview of Meeting Rules by Associate General Counsel

Approval of April 6, 2022 Meeting Minutes

President/CEO update

Management Team Updates

Adjournment

Portion to be Closed to the Public: Executive session closed to the public as provided for by 22 CFR 1004.4(b).

CONTACT PERSON FOR MORE INFORMATION: Nicole Stinson, Associate General Counsel, (202) 683-7117.

For Dial-in Information Contact: Nicole Stinson, Associate General Counsel, (202) 683-7117.

The Inter-American Foundation is holding this meeting under the Government in the Sunshine Act, 5 U.S.C. 552(b).

Nicole Stinson,
Associate General Counsel.

[FR Doc. 2022-14944 Filed 7-8-22; 4:15 pm]

BILLING CODE 7025-01-P